DEPARTMENT OF ENERGY

Federal Energy Regulatory Commission

[Docket No. IC13-15-000]

Commission Information Collection Activities (FERC-582); Comment Request; Extension

AGENCY: Federal Energy Regulatory Commission, DOE.

ACTION: Notice of information collection and request for comments.

SUMMARY: In compliance with the requirements of the Paperwork Reduction Act of 1995, 44 U.S.C. 3506(c)(2)(A), the Federal Energy Regulatory Commission (Commission or FERC) is soliciting public comment on the currently approved information collection, FERC-582 (Electric Fees, Annual Charges, Waivers, and Exemptions).

DATES: Comments on the collection of information are due July 22, 2013.

ADDRESSES: You may submit comments (identified by Docket No. IC13-15-000) by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION: Ellen Brown may be reached by email at DataClearance@FERC.gov, telephone at (202) 502-8663, and fax at (202) 273-0873.

SUPPLEMENTARY INFORMATION: Title: Electric Fees, Annual Charges, Waivers, and Exemptions.

OMB Control No.: 1902-0132.

Type of Request: Three-year extension of the FERC-582 information collection requirements with no changes to the current reporting requirements.

Abstract: The information required by FERC-582 is contained within 18 Code of Federal Regulations (CFR) part 381 ¹ and part 382.²

¹ Title 18 CFR, Sections 381.105, 381.106, 381.108, 381.302, and 381.305.

² Title 18 CFR, Sections 382.102, 382.103, 382.105, 382.106, and 382.201.

The Commission uses the FERC-582 to implement the statutory provisions of the Independent Offices Appropriation Act of 1952 (IOAA) ³ which authorizes the Commission to establish fees for its services. In addition, the Omnibus Budget Reconciliation Act of 1986 (OBRA) ⁴ authorizes the Commission to assess and collect fees and annual charges in any fiscal year in amounts equal to all the costs incurred by the Commission in that fiscal year.

³ 31 U.S.C. 9701.

⁴ 42 U.S.C. 7178.

To comply with the FERC-582 respondents submit to the Commission the sum of the megawatt-hours (MWh) of all unbundled transmission (including MWh delivered in wheeling transactions and MWh delivered in exchange transactions) and the megawatt-hours of all bundled wholesale power sales (to the extent the bundled wholesale power sales were not separately reported as unbundled transmission). The data collected within the FERC-582 is drawn directly from the FERC Form 1 transmission data. The Commission sums the costs of its electric regulatory program and subtracts all electric regulatory program filing fee collections to determine the total collectible electric regulatory program costs. Then, the Commission uses the data submitted under FERC-582 to determine the total megawatt-hours of transmission of electric energy in interstate commerce.

Respondents (e.g. public utilities, power marketers) subject to these annual charges must submit FERC-582 data to the Commission by April 30 of each year.⁵ The Commission issues bills for annual charges to respondents. Then, respondents must pay the charges within 45 days of the Commission's issuance of the bill.

⁵ 18 CFR 382.201.

Respondents file requests for waivers and exemptions of fees and charges ⁶ based on need. The Commission's staff uses the filer's financial information to evaluate the request for a waiver or exemption of the obligation to pay a fee or an annual charge.

⁶ 18 CFR parts 381 and 382.

Estimate of Annual Burden: ⁷ The Commission estimates the total Public Reporting Burden for this information collection as:

⁷ The Commission defines burden as the total time, effort, or financial resources expended by persons to generate, maintain, retain, or disclose or provide information to or for a Federal agency. For further explanation of what is included in the information collection burden, reference 5 CFR 1320.3.

FERC-582—Electric Fees; Annual Charges; Waivers; and Exemptions
| Number of respondents | Number of responses per respondent | Total number of responses | Average burden hours per response | Estimated total annual burden
| (A) | (B) | (A) × (B) = (C) | (D) | (C) × (D)
FERC-582 ⁸ | 114 | 1 | 114 | 1 | 114

The total estimated annual cost burden to respondents is $7,980 [114 hours * $70/hour ⁹ = $7,980].

⁸ Includes requirements of 18 CFR 381.105 (methods of payment), 381.106 (waiver), 381.108 (exemption), 381.302 (declaratory order), 381.303 (review of DOE remedial order), 381.304 (DOE denial of adjustment, and 381.305 (OGC interpretation).

⁹ FY2013 Estimated Average Hourly Cost per FERC FTE, including salary plus benefits.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: May 17, 2013.
Kimberly D. Bose,
Secretary.

[FR Doc. 2013-12297 Filed 5-22-13; 8:45 am]

BILLING CODE 6717-01-P